DEPARTMENT OF ENERGY

Federal Energy Regulatory Commission

Combined Notice of Filings No. 2

October 28, 2010.

Take notice that the Commission has received the following Natural Gas Pipeline Rate and Refund Report filings:

Docket Numbers: RP08-426-015.

Applicants: El Paso Natural Gas Company.

Description: Refund Report pursuant to the Stipulation and Agreement and Annual Penalty Crediting Report of El Paso Natural Gas Company.

Filed Date: 10/26/2010.

Accession Number: 20101026-5106.

Comment Date: 5 p.m. Eastern Time on Monday, November 8, 2010.

Docket Numbers: RP10-1411-001.

Applicants: UGI LNG Inc.

Description: UGI LNG Inc. submits tariff filing per 154.203: UGI LNG Inc. to be effective 9/30/2010.

Filed Date: 10/26/2010.

Accession Number: 20101026-5148.

Comment Date: 5 p.m. Eastern Time on Monday, November 8, 2010.

Docket Numbers: RP10-1163-001.

Applicants: Great Lakes Gas Transmission Limited Partnership.

Description: Great Lakes Gas Transmission Limited Partnership submits tariff filing per 154.203: RP10-1163 Compliance NAESB 1.9 to be effective 11/1/2010.

Filed Date: 10/27/2010.

Accession Number: 20101027-5112.

Comment Date: 5 p.m. Eastern Time on Monday, November 8, 2010.

Docket Numbers: RP10-1164-001.

Applicants: Gas Transmission Northwest Corporation.

Description: Gas Transmission Northwest Corporation submits tariff filing per 154.203: NAESB 1.9 Compliance RP10-1164 to be effective 11/1/2010.

Filed Date: 10/27/2010.

Accession Number: 20101027-5025.

Comment Date: 5 p.m. Eastern Time on Monday, November 8, 2010.

Docket Numbers: RP10-1167-001.

Applicants: Tuscarora Gas Transmission Company.

Description: Tuscarora Gas Transmission Company submits tariff filing per 154.203: RP10-1167 Compliance NAESB 1.9 to be effective 11/1/2010.

Filed Date: 10/27/2010.

Accession Number: 20101027-5115.

Comment Date: 5 p.m. Eastern Time on Monday, November 8, 2010.

Docket Numbers: RP10-1300-001.

Applicants: Garden Banks Gas Pipeline, LLC.

Description: Garden Banks Gas Pipeline, LLC submits tariff filing per 154.203: eTariff Baseline Resubmittal per Staff Instructions to be effective 8/15/2010.

Filed Date: 10/27/2010.

Accession Number: 20101027-5140.

Comment Date: 5 p.m. Eastern Time on Monday, November 8, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-28028 Filed 11-4-10; 8:45 am]

BILLING CODE 6717-01-P